DEPARTMENT OF AGRICULTURE

Rural Utilities Service

East Kentucky Power Association; Notice of Finding of No Significant Impact

AGENCY: Rural Utilities Service, USDA.

ACTION: Notice of finding of no significant impact.

SUMMARY: Notice is hereby given that the Rural Utilities Service (RUS) has made a finding of no significant impact with respect to the construction and operation of two, 268 megawatt coal-fired electric generation units in Mason County, Kentucky. East Kentucky Power Association proposes to construct and operate the units. The Rural Utilities Service (RUS) may provide financing for the two units.

FOR FURTHER INFORMATION CONTACT: Bob Quigel, Environmental Protection Specialist, Engineering and Environmental Staff, RUS, Stop 1571, 1400 Independence Avenue, SW, Washington, DC 20250-1571, telephone (202) 720-0468, e-mail at bquigel@rus.usda.gov.

SUPPLEMENTARY INFORMATION: East Kentucky Power Cooperative proposes to construct two, 268-megawatt coal fired electric generation units at its Spurlock Station in Maysville, Kentucky. Maysville is located in Mason County along the Ohio River. The two new generation units are to be named Gilbert Units 3 and 4. The units would consist of two circulating fluidized bed boilers, two turbine-generators, two baghouses, two sulfur dioxide removal systems, two selective non-catalytic reduction units, and two 720-foot stacks. The project would also include a double-circuit 345-kilovolt transmission line from the Spurlock Station to an existing 345-kV transmission line in Brown County, Ohio. The length of the transmission line would be approximately 3.5 miles and would parallel an existing 138 kV transmission line that crosses the Ohio River. Further details of the project are provided in the environmental assessment.

Copies of the Finding of No Significant Impact are available from RUS at the address provided herein or from Mr. Bob Hughes of East Kentucky Power Association, P.O. Box 707, Winchester, Kentucky 40391; telephone (859) 744-4812 Mr. Hughes's e-mail address is bobh@ekpc.com. Copies of the environmental assessment are available for review at East Kentucky Power Association and RUS at the addresses provided herein.

Dated: March 4, 2002.
Blaine D. Stockton,
Assistant Administrator, Electric Program, Rural Utilities Service.

[FR Doc. 02-5685 Filed 3-8-02; 8:45 am]

BILLING CODE 3410-15-P